ENVIRONMENTAL PROTECTION AGENCY

[FRL-9101-8]

Science Advisory Board Staff Office; Notification of a Public Teleconference of the Clean Air Scientific Advisory Committee (CASAC) Ozone Review Panel for the Reconsideration of the 2008 NAAQS

AGENCY: Environmental Protection Agency (EPA).

ACTION: Notice.

SUMMARY: The Environmental Protection Agency (EPA) Science Advisory Board (SAB) Staff Office announces a public teleconference of the Clean Air Scientific Advisory Committee (CASAC) Ozone Review Panel for the Reconsideration of the 2008 National Ambient Air Quality Standards (NAAQS) to conduct a review of EPA's proposed rule that reconsiders the National Ambient Air Quality Standards (NAAQS) for Ozone set in March 2008.

DATES: The public teleconference will be held on Monday, January 25, 2010 from 10 a.m. to 1 p.m. (Eastern Time).

ADDRESSES: The public teleconference will be conducted by telephone only.

FOR FURTHER INFORMATION CONTACT: Any member of the public who wants further information concerning the teleconference may contact Dr. Holly Stallworth, Designated Federal Officer (DFO), EPA Science Advisory Board (1400F), U.S. Environmental Protection Agency, 1200 Pennsylvania Avenue, NW., Washington, DC 20460; via telephone/voice mail (202) 343-9867; fax (202) 233-0643; or e-mail at stallworth.holly@epa.gov. General information concerning the CASAC can be found on the EPA Web site at http://www.epa.gov/casac.

SUPPLEMENTARY INFORMATION:

Background: The Clean Air Scientific Advisory Committee (CASAC) was established under section 109(d)(2) of the Clean Air Act (CAA or Act) (42 U.S.C. 7409) as an independent scientific advisory committee. CASAC provides advice, information and recommendations on the scientific and technical aspects of air quality criteria and national ambient air quality standards (NAAQS) under sections 108 and 109 of the Act. The CASAC is a Federal Advisory Committee chartered under the Federal Advisory Committee Act (FACA), as amended, 5 U.S.C., App. The CASAC Panel on the Ozone NAAQS Reconsideration will comply with the provisions of FACA and all appropriate SAB Staff Office procedural policies.

Section 109(d)(1) of the CAA requires that the Agency periodically review and revise, as appropriate, the air quality criteria and the National Ambient Air Quality Standards (NAAQS) for the six “criteria” air pollutants, including ozone.

From 2005 to 2008, the CASAC Ozone Review Panel conducted scientific reviews of EPA's scientific assessments of the health and welfare effects of Ozone and other Photochemical Oxidants. This panel last met on March 28, 2008 to provide comments on EPA's Final Rule for the National Ambient Air Quality Standards (NAAQS) for ozone (73 FR 16436). CASAC advisory reports on this subject are available on the CASAC Web site at http://yosemite.epa.gov/sab/sabproduct.nsf/WebProjectsbyTopicCASAC!OpenView under completed topics, specifically Ozone 2005-2008.

On September 16, 2009, EPA Administrator Lisa Jackson announced her decision to reconsider the March 12, 2008 primary and secondary Ozone NAAQS to ensure they are scientifically sound and protective of public health and the environment. Pursuant to this decision, EPA has proposed on January 6, 2009 to set different primary and secondary standards than those set in 2008 to provide requisite protection of public health and welfare, respectively (see http://www.epa.gov/ttn/naaqs/standards/ozone/s_o3_cr_fr.html). Since the proposed standards are based on the scientific record from the 2008 rulemaking, including public comments and CASAC advice, EPA's Office of Air and Radiation requested the former Ozone Review Panel to provide comments and advice on the proposed Ozone standards. Accordingly, the SAB Staff Office is reconvening the former Ozone Review Panel to provide advice on the proposed Ozone NAAQS. This panel is renamed “Ozone Review Panel for the Reconsideration of the 2008 NAAQS.” The roster for this panel can be viewed at http://yosemite.epa.gov/sab/sabproduct.nsf/WebCASAC/CommitteesandMembership?OpenDocument. The purpose of the January 25, 2010 teleconference is for this Panel for the Reconsideration of the 2008 NAAQS to review EPA's proposed rule.

Technical Contacts: Any questions concerning EPA's proposed rule for the NAAQS for Ozone should be directed to Ms. Susan Stone, Office of Air and Radiation (OAR) or by e-mail at (919) 541-1146 or stone.susan@epa.gov.

Availability of Meeting Materials: A meeting agenda and other materials for the meeting will be placed on the CASAC Web site on the page reserved for the January 25, 2010 teleconference, accessible through the calendar link on the blue navigation bar. The proposed rule is available at http://www.epa.gov/ttn/naaqs/standards/ozone/s_o3_cr_fr.html.

Procedures for Providing Public Input: Interested members of the public may submit relevant written or oral information on the group conducting the review and the topics included in this advisory activity. Oral Statements: To be placed on the public speaker list for the January 25, 2010 teleconference, interested parties should notify Dr. Holly Stallworth, DFO, by e-mail no later than January 20, 2010. Individuals making oral statements will be limited to three minutes per speaker. Written Statements: Written statements for the January 25, 2010 teleconference should be received in the SAB Staff Office by January 20, 2010 so that the information may be made available to the CASAC Panel for its consideration prior to this meeting. Written statements should be supplied to the DFO in the following formats: one hard copy with original signature and one electronic copy via e-mail (acceptable file format: Adobe Acrobat PDF, MS Word, WordPerfect, MS PowerPoint, or Rich Text files in IBM-PC/Windows 98/2000/XP format). Submitters are asked to provide versions of each document submitted with and without signatures, because the SAB Staff Office does not publish documents with signatures on its Web sites.

Accessibility: For information on access or services for individuals with disabilities, please contact Dr. Stallworth at the phone number or e-mail address noted above, preferably at least ten days prior to the teleconference, to give EPA as much time as possible to process your request.

Dated: January 5, 2010.
Anthony F. Maciorowski,
Deputy Director, EPA Science Advisory Board Staff Office.

[FR Doc. 2010-261 Filed 1-8-10; 8:45 am]

BILLING CODE 6560-50-P